DEPARTMENT OF LABOR

Mine Safety and Health Administration

Petitions for Modification

The following parties have filed petitions to modify the application of existing safety standards under section 101(c) of the Federal Mine Safety and Health Act of 1977.

1. Speed Mining, Inc.

[Docket No. M-2002-082-C]

Speed Mining, Inc., P.O. Box 1083, Beckley, West Virginia 25802 has filed a petition to modify the application of 30 CFR 75.1700 (oil and gas wells) to its American Eagle Mine (I.D. No. 46-05437) located in Kanawha County, West Virginia. The petitioner requests that its previous petition for modification, docket number M-2001-041-C, be amended as follows: The petitioner will drill out each of the oil wells as already specified in the previous petition. The petitioner will pump the expandable cement to the bottom of the lowest minable seam (Eagle) and pump Portable Class “A” cement on top of the expandable plug to the next Powellton Seam which is approximately 117 feet above. The petitioner states that the Powellton Seam is the anticipated area for broken strata due to subsidence. The petitioner will leave the area from Powellton Seam to the surface open for release of methane from the longwall gob after the longwall has intersected the well. The petitioner asserts that the proposed alternative method would provide at least the same measure of protection as the existing standard.

2. H&M Coal Company

[Docket No. M-2002-084-C]

H&M Coal Company, 48 Meadowview Road, Pine Grove, Pennsylvania 17663 has filed a petition to modify the application of 30 CFR 75.1400 (Hoisting equipment; general) to its Rocky Top Mine (I.D. No. 36-09072) located in Schuylkill County, Pennsylvania. The petitioner proposes to use a slope conveyance (gunboat) for transporting persons without installing safety catches or other no less effective devices. The petitioner would instead use increased rope strength and secondary safety rope connections in place of such devices. The petitioner asserts that the proposed alternative method would provide at least the same measure of protection as the existing standard.

3. KenAmerican Resources, Inc.

[Docket No. M-2002-085-C]

KenAmerican Resources, Inc., 881 Corporate Dr., Suite 204, Lexington, Kentucky 40503 has filed a petition to modify the application of 30 CFR 75.380(g) (Escapeways; bituminous and lignite mines) to its Brier Creek Mine (I.D. No. 15-18495) located in Muhlenberg County, Kentucky. The petitioner requests a modification of the existing standard so that the primary escapeway for the #9 Slope would not be required to be separated from the belt entries until initial development stage is completed, that is, when connection is made to the airshaft. The petitioner has listed in this petition specific terms and conditions that would be followed until the initial development stage is completed. The petitioner asserts that the proposed alternative method would provide at least the same measure of protection as the existing standard.

4. D&F Deep Mine Coal Company

[Docket No. M-2002-086-C]

D&F Mine Coal Company, RD 1 Box 33A, Klingerstown, Pennsylvania 17941 has filed a petition to modify the application of 30 CFR 75.1002-1 (Location of other electric equipment: requirements for permissibility) to its Buck Drift Mine (I.D. No. 36-07456) located in Schuylkill County, Pennsylvania. The petitioner requests a modification of the existing standard to permit the use of non-permissible electric equipment including drags, battery locomotives, communication systems and other electric equipment outby the last crosscut within 150 feet of the pillar line. The petitioner states that operation of this equipment would be suspended anytime methane concentration at the equipment reaches 0.5 percent either during operation or when found during preshift examination. The petitioner asserts that the proposed alternative method would provide at least the same measure of protection as the existing standard.

5. Peabody Coal Company

[Docket No. M-2002-087-C]

Peabody Coal Company, 202 Laidley Tower, P.O. Box 1233, Charleston, West Virginia 25324-1233 has filed a petition to modify the application of 30 CFR 75.1002 (Location of trolley wires, trolley feeder wires, high-voltage cables and transformers) to its Highland Mine (I.D. No. 15-02709) located in Union County, Kentucky. The petitioner requests that its previous petition for modification, docket number M-2001-040-C, be amended to revise paragraph 14(b), to allow routine use of cable crossovers, and to revise paragraph 43(b), to allow a temporary transformer that is not mounted to the mining machine. The petitioner states that the Highland Mine will be operating with Joy 14CM27 miners that are designed to operate in lower coal. Where clearance between the machine and the roof is smaller, the cable may be better protected with the properly designed crossover specified in the previous petition. The petitioner further states that the 14CM27 miner does not have provisions for tramming with a 995-volt input, and the step up transformer specified in revised paragraph 43(b), which would allow tramming of the 14CM27 machine with better control, may be less subject to damage if it is not mounted on the mining machine. The petitioner asserts that the proposed alternative method would provide at least the same measure of protection as the existing standard.

6. Coastal Coal Company, LLC

[Docket No. M-2002-088-C]

Coastal Coal Company, LLC, P.O. Box 1578, Coeburn, Virginia 24230 has filed a petition to modify the application of 30 CFR 77.214(a) (Refuse piles; general) to its VICC #8 Mine (I.D. No. 44-06906), and VICC #3 Mine (I.D. No. 44-06853) located in Wise County, Virginia. The petitioner requests a modification of the existing standard to allow construction of a refuse pile over abandoned mine openings. The petitioner proposes to use an existing mine pit as a location for disposal of mine scalp rock. The petitioner states that disposal of the scalp rock at this location will necessitate filling over (2) two mine openings. The petitioner has listed in this petition specific procedures that would be followed when sealing mine openings. The petitioner asserts that the proposed alternative method would provide at least the same measure of protection as the existing standard.

7. Europa Coal Company, Inc.

[Docket No. M-2002-089-C]

Europa Coal Company, Inc., 430 Harper Park Drive, Beckley, West Virginia 25801 has filed a petition to modify the application of 30 CFR 75.1002 (Location of trolley wires, trolley feeder wires, high-voltage cables and transformers) to its Dry Branch Coalburg Mine (I.D. No. 46-08968) located in Boone County, West Virginia. The petitioner proposes to use a Joy 12CM27 continuous miner which operates at 2,400 volts. The petitioner has listed in this petition specific procedures that would be followed when the proposed alternate method is implemented. The petitioner asserts that the proposed alternative method would provide at least the same measure of protection as the existing standard.

8. Hunt Midwest Mining, Inc.

[Docket No. M-2002-004-C]

Hunt Midwest Mining, Inc., 8300 NE Underground Drive, Kansas City, Missouri 64161 has filed a petition to modify the application of 30 CFR 57.11052 (Refuge areas) to its Stamper Quarry (I.D. No. 23-02232) located in Platte County, Missouri. The petitioner proposes to provide bottled water to the refuge chamber instead of a water line. The petitioner asserts that an unopened 5 gallon bottle has a shelf life of two years and the date of bottling is stamped on the neck of the bottle. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before November 29, 2002. Copies of these petitions are available for inspection at that address.

Dated at Arlington, Virginia this 24th day of October 2002.
Marvin W. Nichols, Jr.,
Director, Office of Standards, Regulations, and Variances.

[FR Doc. 02-27572 Filed 10-29-02; 8:45 am]

BILLING CODE 4510-43-P